DEPARTMENT OF EDUCATION

National Advisory Committee on Institutional Quality and Integrity (NACIQI) Meeting

AGENCY: National Advisory Committee on Institutional Quality and Integrity, Office of Postsecondary Education, U.S. Department of Education.

ADDRESSES: U.S. Department of Education, Office of Postsecondary Education, 1990 K Street, NW., Room 8060, Washington, DC 20006.

ACTION: Opportunities for the public to make written comments and/or oral comments concerning the NACIQI's report on the reauthorization of the Higher Education Act (HEA).

SUMMARY: This notice invites the public to submit written comments and requests to make oral comments concerning the NACIQI's report on the reauthorization of the HEA. This notice is required under Section 10(a)(2) of the Federal Advisory Committee Act (FACA) and Section 114(d)(1)(B) of the Higher Education Act of 1965, as amended (HEA).

SUPPLEMENTARY INFORMATION: The NACIQI meeting will be held on June 8-10, 2011, from 8:30 a.m. to approximately 5:30 p.m., at the Holiday Inn and Suites, Commonwealth Ballroom, 625 First Street, Alexandria, VA 22314.

Changes to the Agenda: Since the publication of the March 9, 2011 Federal Register notice (74 FR 12947), the Department and the NACIQI Chairman changed the order of the scheduled activities. On June 8 and the morning of June 9, the NACIQI will now hold a traditional NACIQI meeting involving the review of specific accrediting agencies that submitted petitions for the renewal of recognition and a Federal institution that submitted an application for degree-granting authority. Refer to the Federal Register notices published on March 9, 2011 (76 FR 12947) and on April 26, 2011 concerning the meeting notice and instructions for submitting written comments and requests to make oral comments concerning the accrediting agencies and the Federal institution scheduled for review.

At approximately 4:00 p.m. on June 8, 2011, the NACIQI will hold an administrative session to conduct the members' annual required ethics training. The training session will not be open to the public. During the afternoon of June 9 and on June 10, 2011, the portion of the meeting concerning the reauthorization of the HEA will occur.

Agenda for the Reauthorization Portion of the Meeting: The reauthorization portion of the meeting will consist of presentations and public comments, which the NACIQI will then deliberate on, concerning the following three broad reauthorization-related issues that are described below.

Issue One: REGULATORY BURDEN and DATA NEEDS: This issue focuses on the concerns about the regulatory burdens and costs of accreditation to institutions, students, and taxpayers. Also included are questions about the nature, quality, and quantity of data gathering and reporting required on the part of institutions and accrediting agencies.

Issue Two: “THE TRIAD”: This issue focuses on clarification of the roles, responsibilities, and capacities of federal, state, and accreditor entities in issues of accreditation and institutional aid eligibility. Included are questions about the link between institutional aid eligibility and accreditation.

Issue Three: ACCREDITOR SCOPE, ALIGNMENT, AND ACCOUNTABILITY: This issue focuses on accreditor scope, alignment, and accountability. Included are questions about the sectors and scope of varying accrediting agencies, the alignment of standards across accreditors, and accountability for accreditation decisions.

Submission of Written Comments Concerning the Reauthorization of the HEA: Submit your written comments by e-mail no later than May 26, 2011, to aslrecordsmanager@ed.gov with the subject line “Written Comments re: Issue Number (list Issue Number(s) from above issue description regarding the reauthorization of the HEA.) Do not send material directly to NACIQI members.

Only materials submitted by the deadline to the e-mail address listed in this notice, and in accordance with these instructions, become part of the official record concerning the reauthorization of the HEA and are considered by the Department and the NACIQI in their deliberations. Do not send material directly to the NACIQI members.

Instructions for Requests To Make Oral Comments Concerning the Reauthorization of the HEA: There are two methods the public may use to make an oral comment concerning the reauthorization of the HEA.

Method One: Submit a request by e-mail in advance of the meeting to make an oral comment. All individuals or groups submitting an advance request in accordance with this notice will be afforded an opportunity to speak for up to a maximum of three minutes each. Each request must be received no later than May 26, 2011, and must be sent to aslrecordsmanagement@ed.gov with the subject line ”Oral Comment Request re: Issue Number (list Issue Number(s) from above issue description regarding the reauthorization of the HEA.” Your request (no more than one page maximum) must include:

1. The name, title, affiliation, mailing address, e-mail address, telephone and facsimile numbers, and Web site (if any) of the person/group requesting to speak; and

2. A brief summary of the principal points to be made during the oral presentation.

Please do not send material directly to the NACIQI members.

Method Two: Depending on the day the issue will be reviewed, register on June 9 or 10, 2011, for an opportunity to comment on one or more of the issues during the NACIQI's deliberations on the reauthorization of the HEA. The requester should provide his or her name, title, affiliation, mailing address, e-mail address, telephone and facsimile numbers, and Web site (if any). Up to 30 minutes total will be allotted for oral commenters who register on June 9 or 10, 2011 (in addition to those commenters who signed up in advance). Individuals or groups that register to make oral comments June 9 or 10, 2011, will be selected on a first-come, first-served basis for each issue reviewed. If selected, each commenter may speak from three to five minutes, depending on the number of individuals or groups who registered for an oral presentation opportunity for each issue. The Committee may engage the commenter in discussion afterwards. If a person or group requests to make comments in advance, they cannot also sign up to make comments on June 9-10, 2011.

Members of the public will be eligible to make oral comments concerning the reauthorization of the HEA only in accordance with these instructions. The oral comments made will become part of the official record and will be considered by the Department and the NACIQI in their deliberations.

Written and Oral Comments Concerning the Agencies/Institutions Scheduled for Review on June 8-9, 2011: Two separate Federal Register notices were previously published on March 9, 2011 and April 26, 2011. Those notices contained the meeting notice and instructions for providing written or oral comments concerning the agencies and the Federal institution scheduled for review.

NACIQI'S Statutory Authority and Functions: The NACIQI is established under Section 114 of the Higher Education Act (HEA), as amended, 20 U.S.C. 1011c. The NACIQI advises the Secretary of Education about:

—The establishment and enforcement of the Criteria for Recognition of accrediting agencies or associations under Subpart 2, Part H, Title IV, HEA, as amended;

—The recognition of specific accrediting agencies or associations, or a specific State approval agency;

—The preparation and publication of the list of nationally recognized accrediting agencies and associations;

—The eligibility and certification process for institutions of higher education under Title IV, HEA;

—The relationship between: (1) accreditation of institutions of higher education and the certification and eligibility of such institutions, and (2) State licensing responsibilities with respect to such institutions; and

—Any other advisory functions relating to accreditation and institutional eligibility that the Secretary may prescribe.

Access to Records of the Meeting: The Department will record the meeting and post the official report of the meeting on the NACIQI Web site shortly after the meeting. Pursuant to the FACA, the public may also inspect the materials at 1990 K Street, NW., Washington, DC, by e-mailing aslrecordsmanager@ed.gov or by calling (202) 219-7067 to schedule an appointment.

Reasonable Accommodations: Individuals who will need accommodations for a disability in order to attend the June 8-10, 2011 meeting (i.e., interpreter services, assistive listening devices, and/or materials in alternative format), should contact Department staff by telephone: (202) 219-7011; or, e-mail: aslrecordsmanager@ed.gov, no later than May 15, 2011. We will attempt to meet requests after this date, but we cannot guarantee the availability of the requested accommodation. The meeting site is accessible.

For Further Information: Contact Melissa Lewis, Executive Director, NACIQI, U.S. Department of Education, Room 8060, 1990 K Street, NW., Washington, DC 20006, telephone: (202) 219-7009; e-mail: Melissa.Lewis@ed.gov. Individuals who use a telecommunications device for the deaf (TDD) may call the Federal Information Relay Service at 1-800-877-8339, between 8:00 a.m. and 8:00 p.m., Eastern Standard Time, Monday through Friday.

Electronic Access to This Document: The official version of this document is the document published in the Federal Register. Free Internet access to the official edition of the Federal Register Digital System at: http://www.gpo.gov/fdsys. At this site you can view this document, as well as all other documents of this Department published in the Federal Register, in text or Adobe Portable Document Format (PDF). To use PDF, you must have Adobe Acrobat Reader, which is available free at this site.

You may also access documents of the Department published in the Federal Register by using the article search feature at http://www.federalregister.gov. Specifically, through the advanced search feature at this site, you can limit your search to documents published by the Department.

Eduardo M. Ochoa,
Assistant Secretary for Postsecondary Education.

[FR Doc. 2011-10032 Filed 4-25-11; 8:45 am]

BILLING CODE 4000-01-P